DEPARTMENT OF HEALTH AND HUMAN SERVICES

National Institutes of Health

Center for Scientific Review; Amended Notice of Meeting

Notice is hereby given of a change in the meeting of the Center for Scientific Review Special Emphasis Panel, January 26, 2009, 2 p.m. to January 26, 2009, 4 p.m., National Institutes of Health, 6701 Rockledge Drive, Bethesda, MD, 20892 which was published in the Federal Register on December 31, 2008, 73 FR 80417-80418.

The meeting has been changed to an AED meeting starting January 26, 2009, 8 a.m. to January 27, 2009, 5 p.m. The meeting title has been changed to “Coagulation and Thrombosis”. The meeting is closed to the public.

Dated: January 6, 2009.
Jennifer Spaeth,
Director, Office of Federal Advisory Committee Policy.

[FR Doc. E9-403 Filed 1-13-09; 8:45 am]

BILLING CODE 4140-01-M